DEPARTMENT OF THE INTERIOR

National Park Service

[NPS-PWR-PWRO-10631; 9475-0764-422]

Final Environmental Impact Statement for Stehekin River Corridor Implementation Plan, Lake Chelan National Recreation Area, North Cascades National Park Service Complex, Chelan County, WA

AGENCY: National Park Service, Interior.

ACTION: Notice of availability of the Final Environmental Impact Statement for Stehekin River Corridor Implementation Plan, Lake Chelan National Recreation Area.

SUMMARY: The National Park Service, in cooperation with the Federal Highway Administration, has prepared a Final Environmental Impact Statement (FEIS) for the Stehekin River Corridor Implementation Plan (SRCIP) and Lake Chelan National Recreation Area Land Protection Plan (LPP). The SRCIP/FEIS identifies and analyzes five alternatives for sustainable management of park facilities (e.g., roads, bridges, trails, maintenance yard) in response to increased flooding and erosion issues in the lower Stehekin River watershed. When approved, the SCRIP will implement several actions called for in the 1995 General Management Plan (GMP), including removal of park maintenance and residential facilities from floodplain areas, construction of recreational facilities and relocation of segments of the primary eastern access road to the adjoining North Cascades National Park, and protection of water quality and scenery along the lower Stehekin River. The updated Lake Chelan National Recreation Area LPP revises acquisition priorities and is intended to accommodate willing sellers of threatened private property.

SUPPLEMENTARY INFORMATION: Recent major floods and resultant channel changes on the lower Stehekin River have intensified flood and erosion threats to NPS facilities and are impacting natural resources within Lake Chelan NRA. The three largest recorded Stehekin River floods have occurred within the past 16 years, and in response, the NPS has spent more than $3 million to protect public roads and facilities and to repair flood damage. Roads, visitor facilities and private development once thought to be safe from the river are now threatened.

Because of the current impacts and future risks associated with these unprecedented conditions, the primary purposes of the actions proposed within the SRCIP are to: (1) Sustainably operate and maintain NPS administrative facilities, public access (roads and trails), and campgrounds; (2) protect water quality, scenic values, habitat, and natural processes of the Stehekin River; and (3) partner with the Stehekin Community to provide services, facilities and experiences for visitors. The SRCIP is needed to (1) respond to the increased magnitude and frequency of flooding, (2) implement and clarify 1995 GMP guidance, (3) sustain public facilities while protecting natural resources, (4) manage limited funding, and to (5) respond to private landowners.

The SRCIP/FEIS describes and analyzes five management alternatives, including continuation of current management actions. This includes a new Alternative 5, which is derived from modifications to Alternative 2 as presented in the Draft EIS (which evaluated four alternatives), based on responses to public comments. All five alternatives have in common certain actions previously identified in the 1995 GMP, including relocation of the NPS maintenance area and some housing out of the channel migration zone; resurfacing of the road from Stehekin Landing to Milepost 9.2 (just above Stehekin Valley Ranch), including paving from Harlequin Bridge to Milepost 9.2; and construction of the Lower Valley Trail. Alternatives 2-5 would also add new campsites at different locations to supplement sites at Harlequin Bridge that are seasonally flooded.

Alternative 1 (continue current management) and Alternative 4 would retain the Stehekin Valley Road access through McGregor Meadows. To protect the road from flood damage and to provide access to private residences, about 5,600 cubic yards of fill would be placed in the floodplain. Under both alternatives, new rock structures (barbs) could be placed along the river.

Alternatives 2 and 3 would relocate 1.9 and 1.75 miles, respectively, of the Stehekin Valley Road from the floodplain in McGregor Meadows, while retaining private access to the area via a 0.75-mile-long reduced maintenance road. Alternatives 2, 3 and 5 differ in where the reroute rejoins to the existing road, with the Alternative 2 and 5 alignments outside of the channel migration zone and Alternative 3 partially within it near the Lower Field. Because of the reroute, implementation of Alternatives 2 or 5 would close the shooting range near the Lower Field. Alternatives 2, 3 and 5 would install roughly half as many rock structures (barbs) compared to Alternatives 1 and 4.

Alternatives 2-5 would revise the Lake Chelan NRA Land Protection Plan. Alternatives 2, 3 and 5 would focus more on exchange and acquisition of properties threatened by the river (provided there are willing sellers), and would cluster future development in areas outside of the channel migration zone. The 1995 LPP placed a higher value on scenic resources along the Stehekin Valley Road. In Alternative 4, less emphasis would be placed on exchange and acquisition priorities in the floodplain, and therefore far fewer private parcels would be high priority for purchase or exchange. Alternative 5 focuses on exchange/acquisition in the most vulnerable areas threatened by the river and introduces two new criteria for prioritizing potential exchange/acquisition lands, including scenic resources and threats within debris flow hazard zones.

Decision Process: Not sooner than 30 days from the date of publication in the Federal Register by the Environmental Protection Agency of its notice of filing of the Final EIS, a Record of Decision for the selected SRCIP alternative will be prepared. Because this is a delegated EIS, the official responsible for the final decision is the Regional Director, Pacific West Region; subsequently the official responsible for implementation of the approved Stehekin River Corridor Implementation Plan is the Superintendent, North Cascades National Park Service Complex.

Dated: September 26, 2012.
Patricia L. Neubacher,
Acting Regional Director, Pacific West Region.

[FR Doc. 2012-24924 Filed 10-9-12; 8:45 am]

BILLING CODE 4310-T6-P